DEPARTMENT OF COMMERCE

[I.D. 100901B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Cooperative Charting Programs.

Form Number(s): NOAA Forms 77-4 and 77-5.

OMB Approval Number: 0648-0022.

Type of Request: Regular submission.

Burden Hours: 45,000.

Number of Respondents: 3,000.

Average Hours Per Response: 3 hours.

Needs and Uses: NOAA’s National Ocean Service (NOS) produces the official nautical charts of the United States. Forms are provided to members of U.S. Power Squadrons and the U.S. Coast Guard Auxiliary to report observations of changes that require additions, corrections, or revisions to the nautical charts. The information provided is used by NOS cartographers to maintain and prepare new additions of nautical charts that are used nationwide by commercial and recreational navigators.

Affected Public: Individuals or households, not-for-profit institutions.

Frequency: On occasion.

Respondent's Obligation: Voluntary.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: October 4, 2001.
Madeleine Clayton,
Departmental Paperwork Clearance Officer, Office of the Chief Information Officer.

[FR Doc. 01-25719 Filed 10-11-01; 8:45 am]

BILLING CODE 3510-JT-S